DEPARTMENT OF LABOR

Employment and Training Administration

[TA-W-53,291B; TA-W-53,291D; and TA-W-53,291E]

Cone Mills Corporation, Cone White Oak, LLC, Division and Corporate Headquarters, Greensboro, NC, Including Sales and Marketing Employees of Cone Mills Corporation Corporate Headquarters Operating at Various Locations in the States of: New York and Virginia; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on December 3, 2003, applicable to workers of Cone Mills Corporation, Cone White Oak, LLC Division and Corporate Headquarters, Greensboro, North Carolina. The notice will be published soon in the Federal Register.

At the request of the State agency, the Department reviewed the certification for workers of the subject firm. New information shows that worker separations have occurred involving employees of the Greensboro, North Carolina facility of Cone Corporation, Corporate Headquarters operating at various locations in the States of New York and Virginia. These employees provide sales and marketing support function services for the production of textile prints and finished denim produced by the subject firm.

Based on these findings, the Department is amending this certification to include sales and marketing employees of the Cone Mills Corporation, Corporate Headquarters, Greensboro, North Carolina, operating at various locations in the States of New York and Virginia.

The intent of the Department's certification is to include all workers of Cone Mills Corporation who were adversely affected by increased imports. The amended notice applicable to TA-W-53,291B is hereby issued as follows:

All workers of Cone Mills Corporation, Cone White Oak, LLC Division and Corporate Headquarters, Greensboro, North Carolina (TA-W-53,291B), including sales and marketing employees of Cone Mills Corporation, Corporate Headquarters, Greensboro, North Carolina, operating at various locations in the states of New York (TA-W-53,291D) and Virginia (TA-W-53,291E), who became totally or partially separated from employment on or after October 14, 2002, through December 3, 2005, are eligible to apply for adjustment assistance under section 223 of the Trade Act of 1974, and are also eligible to apply for alternative trade adjustment assistance under section 246 of the Trade Act of 1974.

Signed in Washington, DC this 26th day of March, 2004.
Linda G. Poole,
Certifying Officer, Division of Trade Adjustment Assistance.

[FR Doc. E4-864 Filed 4-15-04; 8:45 am]

BILLING CODE 4510-13-P